DEPARTMENT OF TRANSPORTATION

Maritime Administration

[MARAD 2005 20317]

Application of Foreign Underwriters to Write Marine Hull Insurance

AGENCY: Maritime Administration, Department of Transportation.

ACTION: Request for comments.

SUMMARY: The Maritime Administration (MARAD) has received applications under 46 CFR part 249 from Axis Specialty Limited and Gard Marine and Energy Limited, both Bermuda based underwriters, to write marine hull insurance on Title XI program vessels.

In accordance with 46 CFR 249.7(b), interested persons are hereby afforded an opportunity to bring to MARAD's attention any discriminatory laws or practices relating to the placement of marine hull insurance which may exist in the applicant's country of domicile.

All comment submissions must include the docket number that appears at the top of this document. Written comments may be submitted to the Docket Clerk, U.S. DOT Dockets, Room PL-401, 400 Seventh Street, SW., Washington, DC 20590. Comments may also be submitted by electronic means via the Internet at http://dmses.dot.gov/submit. All comments received will be available for examination at the above address between 10 a.m. and 5p.m., Monday through Friday, except Federal holidays. An electronic version of this document is available on the World Wide Web at http://dms.dot.gov.

Privacy Act

Anyone is able to search the electronic form of all comments received into any of our dockets by the name of the individual submitting the comment (or signing the comment, if submitted on behalf of an association, business, labor union, etc.). You may review DOT's complete Privacy Act Statement in the Federal Register published on April 11, 2000 (volume 65, number 70; pages 19477-78) or you may visit http://dms.dot.gov.

Dated: February 3, 2005.
Joel C. Richard,
Secretary, Maritime Administration.

[FR Doc. 05-2558 Filed 2-9-05; 8:45 am]

BILLING CODE 4910-81-P